DEPARTMENT OF ENERGY

Federal Energy Regulatory Commission

[Project No. 2879-012]

Green Mountain Power Corporation; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2879-012.

c. Date Filed: January 30, 2020.

d. Applicant: Green Mountain Power Corporation (GMP).

e. Name of Project: Bolton Falls Hydroelectric Project.

f. Location: The existing project is located on the Winooski River in Washington County, Vermont. The project does not affect federal lands.

g. Filed Pursuant to: Federal Power Act 16 U.S.C. 791 (a)—825(r).

h. Applicant Contact: Mr. John Greenan, P.E., Engineer, Green Mountain Power Corporation, 1252 Post Road, Rutland, Vermont 05701; phone: (802) 770-2195 or email at John.Greenan@greenmountainpower.com.

i. FERC Contact: Michael Tust at (202) 502-6522; or email at michael.tust@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43,304). The Final Rule became effective on and applies to any NEPA process begun after September 14, 2020. An agency may also apply the regulations to ongoing activities and environmental documents begun before September 14, 2020, which includes the proposed Bolton Falls Project relicensing. Commission staff intends to conduct its NEPA review in accordance with CEQ's new regulations.

l. The Bolton Falls Project consists of the following constructed facilities: (1) A 92-foot-high, 275-foot-wide timber crib dam with a 5-foot-high rubber dam atop the timber crib construction with a maximum crest elevation of 397 feet and a 196-foot-long reinforced concrete spillway cap at a crest elevation of 392 feet; (2) a 59-acre impoundment with a total storage capacity of 300 acre-feet at a normal operating elevation of 397 feet; (3) a forebay with two concrete intakes, each with a 3-inch-spaced trashrack; (4) two 10-foot diameter, 120-foot-long steel penstocks; (5) a 73-foot-long, 57-foot-wide powerhouse containing two horizontal, 3,750-kilowatt Kaplan turbines with a total installed capacity of 7,500 kilowatts; (6) a 36-inch diameter steel bypass pipe with an invert elevation of 383 feet that discharges near the left side of the spillway base; (7) an approximately 130-foot long, 5-kilovolt underground transmission line connecting to an adjacent switchyard; (8) a 600-foot-long, 34.5-kilovolt overhead transmission line connecting to a second switchyard; and (9) appurtenant facilities. GMP also maintains day-use recreation facilities at the project, including a picnic area, trails, fishing access, and a canoe launch and portage trail.

GMP proposes to operate in automated run-of-river mode as it does under its current practice but instead of providing a 300-cubic feet per second (cfs) minimum flow into the Winooski River through the powerhouse (when generating) or via spill over the dam (when not generating) as it does now, GMP proposes to provide a seasonal aesthetic spill flow of 75 cfs or inflow, whichever is less, into the bypassed reach via spillage over the dam during daylight hours from April 1 through December 15. At all other times, bypassed reach flows would be reduced to leakage except when inflow drops below the minimum hydraulic capacity (i.e., 365 cfs) or when inflow exceeds the maximum hydraulic capacity (2,400 cfs) of the generating units in which case additional flows would be released to the bypassed reach via spill over the dam. Under normal flow conditions when aesthetic spillage is required, GMP proposes to maintain the impoundment at an elevation of 397.25 feet. When aesthetic spillage over the dam is not required, GMP proposes to maintain the reservoir at an elevation of 397 feet as it does now. GMP also proposes to: (1) Relocate recreation parking area out of the floodplain; (2) implement measures to protect creeping lovegrass at the day-use area; (3) add two picnic tables and an information kiosk to the day-use area; and (4) improve the portage landing, trail, and signage.

m. A copy of the application can viewed on the Commission's website at http://www.ferc.gov using the eLibrary link. Enter the docket number excluding the last three digits in the docket number field to access the document. For assistance, contact FERC Online Support.

Register online at https://ferconline.ferc.gov/FERCOnline.aspx to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Final amendments to the application must be filed with the Commission no later than thirty (30) days from the issuance date of this notice.

p. The applicant must file no later than 60 days following the date of issuance of this notice: (1) A copy of the water quality certification; (2) a copy of the request for certification, including proof of the date on which the certifying agency received the request; or (3) evidence of waiver of water quality certification. Please note that the certification request must be sent to the certifying authority and to the Commission concurrently.

q. Procedural schedule: The application will be processed according to the following preliminary Hydro Licensing Schedule. Revisions to the schedule will be made as appropriate.

Milestone | Target date
Deadline for Filing Comments, Recommendations, and Agency Terms and Conditions/Prescriptions | January 2021.
Deadline for Filing Reply Comments | March 2021.

Dated: December 1, 2020.
Kimberly D. Bose,
Secretary.

[FR Doc. 2020-26821 Filed 12-4-20; 8:45 am]

BILLING CODE 6717-01-P